DEPARTMENT OF THE INTERIOR

National Park Service

National Register of Historic Places; Notification of Pending Nominations

Nominations for the following properties being considered for listing in the National Register were received by the National Park Service before June 7, 2003. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by July 10, 2003.

Carol D. Shull,
Keeper of the National Register of Historic Places.

Arkansas

Greene County

Paragould Downtown Commercial Historic District, Roughly bounded by 3rd Ave., Kingshighway, 3½ St., and W. Highland St., Paragould, 03000646

Colorado

Mesa County

Colorado National Monument Visitor Center Complex, Colorado National Monument, Fruita, 03000647

Kentucky

Ohio County

Monroe, Bill, Farm, >S of KY 62, 1.5 mi. N of Western Kentucky Parkway, and 2.5 mi. E of Green River Parkway, Rosine, 03000648

Maryland

Harford County

Berkley Crossroads Historic District, Berkley Road and Castleton Rd., Darlington, 03000649

Missouri

Cape Girardeau County

Broadway and North Fountain Street Historic District, (Cape Girardeau, Missouri MPS) 320-400 Broadway and 221 North Fountain St., Cape Girardeau, 03000654

Himmelberger and Harrison Building, (Cape Girardeau, Missouri MPS) 400 Broadway, Cape Girardeau, 03000653

Howell County

Courthouse Square Historic District, (West Plains, Missouri MPS) Roughly bounded by Broadway, Grove St., Court Sq. and Washington Ave., West Plains, 03000651

Polk County

Bolivar Public Library, 120 E. Jackson St., Bolivar, 03000652

St. Louis Independent City

Grand—Leader (Stix, Baer & Fuller Dry Goods Co.) Building, 601 Washington Ave., St. Louis (Independent City), 03000650

New Jersey

Cape May County

Fire Control Tower No. 23, Sunset Boulevard, Lower Township, 03000655

Rhode Island

Providence County

National and Providence Worsted Mills, 166 Valley St., Providence, 03000656

Poirier's Diner, 1467 Westminster St., Providence, 03000657

South Carolina

Greenville County

Burdette Building, 104 E. Curtis St., Simpsonville, 03000660

Lee County

Mt. Zion Presbyterian Church, SC 154, St. Charles Rd., Bishopville, 03000661

Marion County

Mullins Commercial Historic District, Along portions of Main, Front, and W. Wine Sts., Mullins, 03000662

Pickens County

Oolenoy Baptist Church Cemetery, 201 Miracle Hill Rd., Pickens, 03000659

Richland County

Carver Theatre, 1519 Harden St., Columbia, 03000658

Tennessee

Loudon County

Winton, John House, 18350 Martel Rd., Lenoir City, 03000665

Smith County

Fite—Williams—Ligon House, 212 Fite Ave. W, Carthage, 03000663

Washington County

Johnson City Commercial Historic District, E. Market St., E. Main St., Tipton St., Buffalo St., Spring St., S. Roan St., and Colonial Way, Johnson City, 03000666

Johnson City Warehouse and Commerce Historic District, Commerce St., W. Market St., McClure St., Boone St., Johnson City, 03000667

Texas

Val Verde County

Del Rio Cemeteries Historic District, Roughly bounded by W 2nd St., Johnson Blvd., and St. Peter's St., Del Rio, 03000664

Wisconsin

Door County

CHRISTINA NILSSON (shipwreck), (Great Lakes Shipwreck Sites of Wisconsin MPS) Baileys Harbor, Baileys Harbor, 03000668

Vernon County

Viroqua Downtown Historic District, Main St., roughly bounded by W. Court, E. Jefferson and the odd numbered 200 blk of S. Main St., Viroqua, 03000669

A request for REMOVAL has been made for the following resources:

Mississippi

Clay County

Cooper, Robert L., House (Clay County MPS) Mhoon Valley Rd., W of West Point West Point vicinity, 94001635

Lowndes County

Bethel Presbyterian Church, 12 mi. off U.S. 45, Columbus vicinity, 86003126

[FR Doc. 03-15980 Filed 6-24-03; 8:45 am]

BILLING CODE 4312-51-P